DEPARTMENT OF TRANSPORTATION

Federal Railroad Administration

Notice of Funding Opportunity for Consolidated Rail Infrastructure and Safety Improvements; Extension

AGENCY: Federal Railroad Administration (FRA), Department of Transportation (DOT).

ACTION: Notice of Funding Opportunity; extension of deadline on solicitation for applications.

SUMMARY: Under a notice published in the Federal Register, the FRA sought applications from eligible parties for the Fiscal Year 2018 Consolidated Rail Infrastructure and Safety Improvements program that will improve intercity passenger and freight rail transportation systems in terms of safety, efficiency, or reliability. Due to Hurricane Florence, the FRA is extending the application deadline to give applicants additional time to complete the application process and submit applications.

DATES: The application deadline for the notice published July 19, 2018 (83 FR 34283), is extended. FRA will accept applications for the Fiscal Year 2018 Consolidated Rail Infrastructure and Safety Improvements program until October 12, 2018 at 5 p.m. EDT. The application deadline was Monday, September 17, 2018 at 5 p.m. EDT.

ADDRESSES: Applications must be submitted electronically to http://www.grants.gov (“Grants.gov”). Grants.gov allows organizations electronically to find and apply for competitive grant opportunities from all Federal grant-making agencies. Any entity wishing to submit an application pursuant to this notice should immediately initiate the process of registering with Grants.gov at http://www.grants.gov.

FOR FURTHER INFORMATION CONTACT: For further project or program-related information in this notice, please contact Ms. Frances Bourne, Office of Policy and Planning, Federal Railroad Administration, 1200 New Jersey Avenue SE, Room W38-207, Washington, DC 20590; email: frances.bourne@dot.gov; phone 202-493-6366. Grant application submission and processing questions should be addressed to Ms. Amy Houser, Office of Program Delivery, Federal Railroad Administration, 1200 New Jersey Avenue SE, Room W36-412, Washington, DC 20590; email: amy.houser@dot.gov; phone: 202-493-0303.

SUPPLEMENTARY INFORMATION: This notice simply extends the application deadline for the Fiscal Year 2018 Consolidated Rail Infrastructure and Safety Improvements program. The new application deadline is October 12, 2018 at 5 p.m. EDT. Interested applicants should consult the notice published on July 19, 2018 in the Federal Register (83 FR 34283) for additional details about the program and the application process.

Issued in Washington, DC.
Paul Nissenbaum,
Associate Administrator, Office of Railroad Policy and Development.

[FR Doc. 2018-20833 Filed 9-24-18; 8:45 am]

BILLING CODE 4910-06-P